DEPARTMENT OF COMMERCE

National Oceanic and Atmospheric Administration

RIN 0648-XC85

Endangered Species; File No. 1614

AGENCY: National Marine Fisheries Service (NMFS), National Oceanic and Atmospheric Administration (NOAA), Commerce.

ACTION: Notice; receipt of application.

SUMMARY: Notice is hereby given that the NOAA Fisheries Northeast Region, Protected Resources Division, One Blackburn Drive, Gloucester, MA 01930, has applied in due form for a permit to take dead shortnose sturgeon for purposes of scientific research and enhancement.

DATES: Written, telefaxed, or e-mail comments must be received on or before October 26, 2007.

ADDRESSES: The application and related documents are available for review upon written request or by appointment in the following office(s):

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9300; fax (978)281-9394; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1614.

FOR FURTHER INFORMATION CONTACT: Brandy Hutnak or Jennifer Skidmore, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to collect, necropsy, sample, and salvage dead shortnose sturgeon (Acipenser brevirostrum) found beached, sunken, floating etc., or taken legally during other authorized activities, for the purposes of education and scientific research. The purpose of the proposed research is to use the collected sturgeon to support past, ongoing, and anticipated research including, but not limited to, morphology, genetics, histopathology, contaminants, age and growth, food habits, and human impact/anthropogenic mortality. Additionally, this work would help promote the conservation of shortnose sturgeon by enabling educators to receive and maintain parts from deceased sturgeon. The number of fish collected annually would vary, but likely would not exceed 100 per year, unless there was a catastrophic event (e.g. oil spill, fish kill). Carcasses would be collected opportunistically throughout their range (east coast and rivers of the United States in the northeast and southeast regions) for a period of five years.

Dated: September 19, 2007.
Tammy C. Adams,
Acting Chief, Permits, Conservation and Education Division, Office of Protected Resources, National Marine Fisheries Service.

[FR Doc. E7-18974 Filed 9-25-07; 8:45 am]

BILLING CODE 3510-22-S